Title 3—

The President

Proclamation 9349 of October 14, 2015

Blind Americans Equality Day, 2015

By the President of the United States of America

A Proclamation

Blind and visually impaired individuals make extraordinary contributions to our Nation, and their achievements reflect an enduring belief at the heart of America's promise: that no person's potential should be limited by anything other than the scope of their dreams. On Blind Americans Equality Day, we recommit to making good on this promise by ensuring all our people, including those living with visual impairments or other print disabilities, have the tools and resources they need to realize their greatest aspirations.

Twenty-five years ago, our country took a major step toward achieving this goal with the passage of the Americans with Disabilities Act, which mandates all places that comprise our shared life remain accessible to all people. And each day, in part thanks to this law, millions of legally blind and visually impaired Americans are better able to develop their skills and contribute to communities across our country.

My Administration remains committed to ensuring ours is a Nation where the blind community has every chance to fully realize their incredible talents. Earlier this year, we hosted the White House Summit on Disability and Employment, which provided businesses, organizations, and advocates with information and Federal resources for hiring individuals with disabilities. Additionally, we have prioritized improving the accessibility of Federal Government Web sites for people with disabilities. We also continue to support the inclusion of Braille in our Nation's schools—because no child should be prevented from reaching their fullest potential due to blindness or vision impairment. And across all levels of government, we are working to expand access to high-quality workforce, education, and rehabilitation services for Americans with disabilities.

Blind and visually impaired people are valued members of our communities, and from lecture halls to laboratories and sports stadiums to conference rooms, they drive meaningful progress and help build a stronger, more vibrant Nation. On Blind Americans Equality Day, we rededicate ourselves to building a society where everyone has an equal shot at the American dream and can benefit from all our country has to offer.

By joint resolution approved on October 6, 1964 (Public Law 88-628, as amended), the Congress designated October 15 of each year as “White Cane Safety Day” to recognize the contributions of Americans who are blind or have low vision. Today, let us reaffirm our commitment to being a Nation where all our people, including those with disabilities, have every opportunity to achieve their dreams.

NOW, THEREFORE, I, BARACK OBAMA, President of the United States of America, by virtue of the authority vested in me by the Constitution and the laws of the United States, do hereby proclaim October 15, 2015, as Blind Americans Equality Day. I call upon public officials, business and community leaders, educators, librarians, and Americans across the country to observe this day with appropriate ceremonies, activities, and programs.

IN WITNESS WHEREOF, I have hereunto set my hand this fourteenth day of October, in the year of our Lord two thousand fifteen, and of the Independence of the United States of America the two hundred and fortieth.

[FR Doc. 2015-26687

Filed 10-16-15; 11:15 am]

Billing code 3295-F6-P